INTERNATIONAL TRADE COMMISSION

[Investigation No. 731-TA-1203 (Second Review)]

Xanthan Gum From China; Determination

On the basis of the record ¹ developed in the subject five-year review, the United States International Trade Commission (“Commission”) determines, pursuant to the Tariff Act of 1930 (“the Act”), that revocation of the antidumping duty order on xanthan gum from China would be likely to lead to continuation or recurrence of material injury to an industry in the United States within a reasonably foreseeable time.

¹ The record is defined in § 207.2(f) of the Commission's Rules of Practice and Procedure (19 CFR 207.2(f)).

Background

The Commission instituted this review on October 2, 2023 (88 FR 67809) and determined on January 5, 2024 that it would conduct an expedited review (89 FR 3427, January 18, 2024).

The Commission made this determination pursuant to section 751(c) of the Act (19 U.S.C. 1675(c)). It completed and filed its determination in this review on April 1, 2024. The views of the Commission are contained in USITC Publication 5501 (April 2024), entitled Xanthan Gum from China: Investigation No. 731-TA-1203 (Second Review).

By order of the Commission.
Issued: April 1, 2024.
Lisa Barton,
Secretary to the Commission.

[FR Doc. 2024-07214 Filed 4-4-24; 8:45 am]

BILLING CODE 7020-02-P